DEPARTMENT OF TRANSPORTATION

Surface Transportation Board

[Docket No. FD 35725]

MCM Rail Services LLC, d/b/a Baltimore Industrial Railroad—Operation Exemption—Hilco SP Rail, LLC

MCM Rail Services LLC, d/b/a Baltimore Industrial Railroad (MCM), a noncarrier, has filed a verified notice of exemption under 49 CFR 1150.31 to operate as a common carrier over an approximately 12-mile line of railroad in Sparrows Point, Baltimore County, Md. (the Line), pursuant to an agreement with Hilco SP Rail, LLC (Hilco).¹ MCM states that there are no mileposts on the Line.

¹ Hilco filed a notice of exemption to acquire and operate the Line, which was served and published in the Federal Register on April 26, 2013. Hilco SP Rail, LLC—Acquisition and Operation Exemption—RG Steel Railroad Holding, LLC, FD 35734 (STB served Apr. 26, 2013); 78 FR 24,803 (Apr. 26, 2013).

MCM's notice was held in abeyance by decision served April 5, 2013, because, among other things, MCM had previously filed a petition for exemption in MCM Rail Services LLC—Petition for Retroactive Exemption—In Sparrows Point, Md., Docket No. FD 35707, requesting essentially the same authority sought here. In a decision served June 11, 2013, the Board granted MCM's motion to withdraw that petition for exemption, and concurrently lifted the abeyance in this proceeding.

According to MCM, it has entered into a Railroad Services Agreement (Agreement) with Hilco to operate the Line until March 14, 2016, and, unless the Agreement is extended or MCM is otherwise able to continue service, MCM shall seek discontinuance authority from the Board prior to discontinuing service over the Line.

MCM states that there are no interchange commitments or paper barriers in the Agreement. MCM also states it will interchange traffic with CSX Transportation, Inc. (CSXT) and Norfolk Southern Railway Company (NSR) and that there will not be any interchange commitments or paper barriers between MCM and CSXT or MCM and NSR.

The transaction may be consummated on or after June 28, 2013 (the effective date of this exemption).

MCM certifies that that the projected annual revenues as a result of this transaction will not exceed those that would qualify it as a Class III rail carrier and further certifies that its projected annual revenue will not exceed $5 million.

If the verified notice contains false or misleading information, the exemption is void ab initio. Petitions to revoke the exemption under 49 U.S.C. 10502(d) may be filed at any time. The filing of a petition to revoke will not automatically stay the effectiveness of the exemption. Petitions for stay must be filed no later than June 21, 2013 (at least seven days before the exemption becomes effective).

An original and 10 copies of all pleadings, referring to Docket No. FD 35725, must be filed with the Surface Transportation Board, 395 E Street SW., Washington, DC 20423-0001. In addition, a copy of each pleading must be served on Louis E. Gitomer, Law Offices of Louis E. Gitomer LLC, 600 Baltimore Avenue, Suite 301, Towson, MD 21204.

Board decisions and notices are available on our Web site at “www.stb.dot.gov.”

Decided: June 11, 2013.
By the Board, Rachel D. Campbell, Director, Office of Proceedings.
Jeffrey Herzig,
Clearance Clerk.

[FR Doc. 2013-14178 Filed 6-13-13; 8:45 am]

BILLING CODE 4915-01-P